DEPARTMENT OF TRANSPORTATION

Federal Aviation Administration

[Summary Notice No. PE-2001-05]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 12, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR §§ 11.85 and 11.91.

Issued in Washington, DC, on January 16, 2001.
Donald P. Byrne,
Assistant Chief Counsel for Regulations.

Petitions for Exemption

Docket No.: FAA-2000-8165.

Petitioner: The Jet Center, Garret Aviation Services.

Section of 14 CFR Affected: 14 CFR § 25.813(e).

Description of Relief Sought: To permit The Jet Center, Garret Aviation Services, to install doors in petitions between passenger compartments on Bombardier Model BD-700-1A10 airplanes used for corporate transportation.

Dispositions of Petitions

Docket No.: FAA-2000-8176.

Petitioner: VARIG S.A.

Section of 14 CFR Affected: 14 CFR § 145.47(b).

Description of Relief Sought/Disposition: To permit VARIG to use the calibration standards of the Instituto Nacional de Metrologia, Normalização e Qualidade Industrial (INMETRO) in lieu of the calibration standards of the U.S. National Institute of Standards and Technology (NIST) to test its inspection and test equipment.

Grant, 11/30/00, Exemption No. 6552B

Docket No.: FAA-2000-8179.

Petitioner: Fairchild Aircraft Incorporated.

Section of 14 CFR Affected: 14 CFR § 91.531(a)(3).

Description of Relief Sought/Disposition: To permit Fairchild to conduct production and experimental test flights in SA227-CC and SA227-DC Metro 23 airplanes without a pilot designated as second in command (SIC).

Grant, 11/28/00, Exemption No. 5367F

Docket No.: FAA-2000-8180.

Petitioner: Regional Airline Association.

Section of 14 CFR Affected: 14 CFR § 61.3(a) and (c).

Description of Relief Sought/Disposition: To permit the establishment of special procedures that enable an operator to issue to its flight crewmembers, on a temporary basis, confirmation of any required crewmember certificate based on information contained in the operator's approved record system for RAA member carriers and similarly situated 14 CFR part 135 air carriers.

Grant, 11/28/00, Exemption No. 5560C

Docket No.: FAA-2000-8215.

Petitioner: ProJet International Express, Inc.

Section of 14 CFR Affected: 14 CFR § 135.143(c)(2).

Description of Relief Sought/Disposition: To permit PIE to operate certain aircraft under part 135 without a TSO-C112 (Mode S) transponder installed in the aircraft.

Grant, 12/05/00, Exemption No. 7391

Petition for Exemption

Docket No.: FAA-2000-8165.

Petitioner: The Jet Center, Garret Aviation Services.

Regulations Affected: 25.813(e).

Description of Petition: To exempt The Jet Center, Garret Aviation Services, from the requirements of 14 CFR 25.813(e) to permit installation of doors in partitions between passenger compartments on Bombardier Model BD-700-1A10 airplanes used for corporate transportation.

[FR Doc. 01-1677 Filed 1-19-01; 8:45 am]

BILLING CODE 4910-13-M